DEPARTMENT OF ENERGY

Federal Energy Regulatory Commission

Combined Notice of Filings #1

Take notice that the Commission received the following electric corporate filings:

Docket Numbers: EC22-99-000.

Applicants: Energywell Think Holdings, LLC, ENGIE Retail, LLC.

Description: Joint Application for Authorization Under Section 203 of the Federal Power Act of ENGIE Retail, LLC, et al.

Filed Date: 8/8/22.

Accession Number: 20220808-5191.

Comment Date: 5 p.m. ET 8/29/22.

Take notice that the Commission received the following exempt wholesale generator filings:

Docket Numbers: EG22-201-000.

Applicants: Chaparral Springs, LLC.

Description: Notice of Self-Certification of Exempt Wholesale Generator Status of Chaparral Springs, LLC.

Filed Date: 8/8/22.

Accession Number: 20220808-5149.

Comment Date: 5 p.m. ET 8/29/22.

Take notice that the Commission received the following Complaints and Compliance filings in EL Dockets:

Docket Numbers: EL22-83-000.

Applicants: Invenergy Transmission LLC v. Midcontinent Independent System Operator, Inc.

Description: Complaint of Invenergy Transmission LLC vs. Midcontinent Independent System Operator, Inc.

Filed Date: 8/8/22.

Accession Number: 20220808-5195.

Comment Date: 5 p.m. ET 9/7/22.

Take notice that the Commission received the following electric rate filings:

Docket Numbers: ER22-1679-000.

Applicants: Google Energy LLC.

Description: Second Supplement to April 22, 2022 Google Energy LLC tariff filing.

Filed Date: 8/8/22.

Accession Number: 20220808-5187.

Comment Date: 5 p.m. ET 8/29/22.

Docket Numbers: ER22-2085-000.

Applicants: Bear Ridge Solar LLC.

Description: Bear Ridge Solar LLC Submits Supplemental Information to its June 8, 2022 Request for Limited Relief from the Regulatory Milestone Requirement of the NYISO's OATT.

Filed Date: 8/3/22.

Accession Number: 20220803-5156.

Comment Date: 5 p.m. ET 8/24/22.

Docket Numbers: ER22-2247-001.

Applicants: Midcontinent Independent System Operator, Inc.

Description: Tariff Amendment: 2022-08-09_SA 3332 SIGE-Grandview Solar Sub 1st Rev GIA (J783) to be effective 6/16/2022.

Filed Date: 8/9/22.

Accession Number: 20220809-5083.

Comment Date: 5 p.m. ET 8/30/22.

Docket Numbers: ER22-2623-000.

Applicants: PJM Interconnection, L.L.C.

Description: Tariff Amendment: Notice of Cancellation of ISA, SA No. 5461 and ICSA SA No. 5462 to be effective 8/6/2022.

Filed Date: 8/9/22.

Accession Number: 20220809-5031.

Comment Date: 5 p.m. ET 8/30/22.

Docket Numbers: ER22-2624-000.

Applicants: Middletown Coke Company, LLC.

Description: § 205(d) Rate Filing: Norma filing 2022 to be effective 10/1/2022.

Filed Date: 8/9/22.

Accession Number: 20220809-5037.

Comment Date: 5 p.m. ET 8/30/22.

Docket Numbers: ER22-2625-000.

Applicants: Basin Electric Power Cooperative.

Description: Tariff Amendment: Basin Electric Notice of Cancellation of Service Agreement Nos. 48 & 49 to be effective 8/5/2022.

Filed Date: 8/9/22.

Accession Number: 20220809-5054.

Comment Date: 5 p.m. ET 8/30/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2022.
Debbie-Anne A. Reese,
Deputy Secretary.

[FR Doc. 2022-17488 Filed 8-12-22; 8:45 am]

BILLING CODE 6717-01-P